DEPARTMENT OF ENERGY

Federal Energy Regulatory Commission

[Project No. 14893-000]

New England Hydropower Company, LLC; Notice of Comment Period Extension

On December 27, 2018, the Commission issued a notice setting February 25, 2019, as the end of the formal period to file comments on the preliminary permit application for the Delaware Canal Ground Hog Lock Hydroelectric Project No. 14893. Due to the funding lapse at certain federal agencies between December 22, 2018 and January 25, 2019, the Commission is extending the comment period until March 26, 2019.

Dated: February 8, 2019.
Kimberly D. Bose,
Secretary.

[FR Doc. 2019-02337 Filed 2-13-19; 8:45 am]

BILLING CODE 6717-01-P